DEPARTMENT OF TRANSPORTATION

Federal Aviation Administration

14 CFR Part 73

[Docket No. FAA-2025-0273; Airspace Docket No. 23-ASO-43]

RIN 2120-AA66

Establishment of Restricted Areas R-5305A, R-5305B, and R-5305C; Camp Lejeune, NC; and Restricted Areas R-5307A, R-5307B, and R-5307C; Cherry Point, NC

AGENCY: Federal Aviation Administration (FAA), DOT.

ACTION: Proposed rule; extension of comment period.

SUMMARY: This action provides a second extension of the comment period for a NPRM that was originally published on March 20, 2025. In that document, the FAA proposed to establish restricted areas R-5305A, R-5305B, and R-5305C at Camp Lejeune, NC; and restricted areas R-5307A, R-5307B, and R-5307C at Cherry Point, NC. A four-day extension to the comment period was previously issued on April 16, 2025. The present extension provides an additional two weeks for comments in response to a request by the Aircraft Owners and Pilots Association (AOPA) to extend the comment period to analyze newly provided supporting graphics.

DATES: The comment period for the NPRM published on March 20, 2025 (90 FR 13112), was initially scheduled to close on May 5, 2025; an extension of the comment period was published in the Federal Register on April 16, 2025 (90 FR 15944) extending the comment period until May 9, 2025; is hereby further extended by two additional weeks until May 23, 2025.

ADDRESSES: Send comments identified by FAA Docket No. FAA-2025-0273 and Airspace Docket No. 23-ASO-43 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Brian Vidis, Rules and Regulations Group, Policy Directorate, Federal Aviation Administration, 600 Independence Avenue SW, Washington, DC 20597; telephone: (202) 267-8783.

SUPPLEMENTARY INFORMATION:

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address, phone number, and hours of operation). An informal docket may also be examined during normal business hours at the office of the Eastern Service Center, Federal Aviation Administration, Room 210, 1701 Columbia Avenue, College Park, GA 30337.

Background

The FAA originally published a NPRM for Docket No. FAA 2025-0273 in the Federal Register (90 FR 13112; March 20, 2025), proposing to establish restricted areas R-5305A, R-5305B, and R-5305C at Camp Lejeune, NC; and restricted areas R-5307A, R-5307B, and R-5307C at Cherry Point, NC. Subsequent to publication of the NPRM, the FAA determined that a four-day extension of the comment period was appropriate due to a planned four-day outage of the Federal Register comment submission website during the period of public comment. An extension of the comment period was accordingly published in the Federal Register on April 16, 2025 (90 FR 15944) extending the comment period from May 5, 2025 to May 9, 2025.

On April 29, 2025, the FAA received a request from the Aircraft Owners and Pilots Association (AOPA) to include graphical depictions in Docket No. FAA 2025-0273 of the proposed restricted areas R-5305A, R-5305B, and R-5305C at Camp Lejeune, NC; and proposed restricted areas R-5307A, R-5307B, and R-5307C at Cherry Point, NC. Subsequently, the requested graphics of each proposed restricted area were uploaded to the docket. Additionally, AOPA further requested that the comment period be extended by two weeks, to May 23, 2025, to allow additional time for the public to analyze the graphics and to provide feedback. The FAA finds it appropriate for the comment period to be extended and hereby grants a two-week extension as requested.

Extension of Comment Period

The FAA has determined that an extension of the comment period is consistent with the public interest, and that good cause exists for taking this action. Therefore, pursuant to the authority delegated to me, the comment period for Docket No. FAA-2025-0273; Airspace Docket No. 23-ASO-43 originally published in the Federal Register on March 20, 2025 (90 FR 13112), is extended until May 23, 2025.

Issued in Washington, DC, on May 2, 2025.
Brian Eric Konie,
Manager (A), Rules and Regulations Group.

[FR Doc. 2025-07940 Filed 5-6-25; 8:45 am]

BILLING CODE 4910-13-P